DEPARTMENT OF DEFENSE

Department of the Navy

Notice of Availability of Invention for Licensing; Government-Owned Inventions

AGENCY: Department of the Navy, DoD.

ACTION: Notice.

SUMMARY: The inventions listed below are assigned to the United States Government as represented by the Secretary of the Navy and are available for licensing by the Department of the Navy.

The following patents are available for licensing:

U.S. Patent Application Serial No 09/671,166: MATRIX ASSISTED PULSED LASER EVAPORATION DIRECT WRITE, Navy Case No. 82,745.//U.S. Patent Application Serial No. 09/318,134: MAPLE-DW (MATRIX ASSISTED PULSED LASER EVAPORATION DIRECT WRITE), Navy Case No. 79,702.//U.S. Patent Application Serial No. 10/068,364: GENERATION OF BIOMATERIAL MICROARRAYS BY LASER TRANSFER, Navy Case No. 82,621.//U.S. Patent Application Serial No. 10/068,315: GENERATION OF VIABLE CELL ACTIVE BIOMATERIAL PATTERNS BY LASER TRANSFER, Navy Case No. 83,665.//U.S. Patent Application Serial No. 09/619,442 DIRECT-WRITE LASER TRANSFER AND PROCESSING, Navy Case No. 79,834.//

ADDRESSES: Requests for copies of the patents cited should be directed to the Naval Research Laboratory, Code 1008.2, 4555 Overlook Avenue, SW., Washington, DC 20375-5320, and must include the Navy Case number.

FOR FURTHER INFORMATION CONTACT: Catherine M. Cotell, Ph.D., Head, Technology Transfer Office, NRL Code 1004, 4555 Overlook Avenue, SW., Washington, DC 20375-5320, telephone (202) 767-7230. Due to U.S. Postal delays, please fax (202) 404-7920, E-Mail: cotell@nrl.navy.mil or use courier delivery to expedite response.

(Authority: 35 U.S.C. 207, 37 CFR part 404)

Dated: April 15, 2002.
T.J. Welsh,
Lieutenant Commander, Judge Advocate General's Corps, U.S. Navy, Federal Register Liaison Officer.

[FR Doc. 02-9841 Filed 4-22-02; 8:45 am]

BILLING CODE 3810-FF-P